DEPARTMENT OF TRANSPORTATION

Pipeline and Hazardous Materials Safety Administration

49 CFR Parts 172, 173, 175, 176, 178 and 180

[Docket No. PHMSA-04-17036 (HM-215G)]

RIN 2137-AD92

Harmonization With the United Nations Recommendations, International Maritime Dangerous Goods Code, and International Civil Aviation Organization's Technical Instructions; Correction; Final Rule

AGENCY: Pipeline and Hazardous Materials Safety Administration (PHMSA), DOT.

ACTION: Final rule.

SUMMARY: On December 20, 2004, the Research and Special Programs Administration (RSPA)—the predecessor agency to the Pipeline and Hazardous Materials Safety Administration (PHMSA)—published a final rule under Docket Number RSPA-04-17036 (HM-215G) amending the Hazardous Materials Regulations (HMR) to maintain alignment with international standards by incorporating various amendments, including changes to proper shipping names, hazard classes, packing groups, special provisions, packaging authorizations, air transport quantity limitations and vessel stowage requirements. Because of recent changes to the International Maritime Dangerous Goods Code (IMDG Code), the International Civil Aviation Organization's Technical Instructions for the Safe Transport of Dangerous Goods by Air (ICAO Technical Instructions), and the United Nations Recommendations on the Transport of Dangerous Goods (UN Recommendations), these revisions are necessary to facilitate the transport of hazardous materials in international commerce. This final rule corrects errors in the December 20, 2004 final rule.

DATES: Effective Date: The effective date of these amendments is June 14, 2005.

Delayed Compliance Date: Unless otherwise specified, compliance with the amendments adopted in this final rule is required beginning January 1, 2006.

FOR FURTHER INFORMATION CONTACT: Charles Betts, Office of Hazardous Materials Standards, telephone (202) 366-8553, or Shane Kelley, International Standards, telephone (202) 366-0656, Pipeline and Hazardous Materials Safety Administration.

SUPPLEMENTARY INFORMATION:

I. Background

On December 20, 2004, the Research and Special Programs Administration (RSPA)—the predecessor agency to the Pipeline and Hazardous Materials Safety Administration (PHMSA, we)—published a final rule under Docket HM-215G (69 FR 76044) revising the HMR to maintain alignment with recent changes corresponding provisions in international standards. Changes to the International Maritime Dangerous Goods Code (IMDG Code), the International Civil Aviation Organization's Technical Instructions for the Safe Transport of Dangerous Goods by Air (ICAO Technical Instructions), and the United Nations Recommendations on the Transport of Dangerous Goods (UN Recommendations) necessitated amendments to domestic regulations to provide consistency and facilitate the transport of hazardous materials in international commerce. This final rule corrects various errors made during the development of the December 20, 2004 final rule and printing process. Because the amendments adopted herein impose no new regulatory burden on any person, these amendments are being made effective without the usual 30-day delay following publication.

II. Corrections and Revisions

Part 172

Section 172.101 The Hazardous Materials Table (HMT)

We are correcting entries in the HMT as follows:

• The entry “Adhesives, containing a flammable liquid,” UN1133, PG I is revised by correcting the Column (8C) Bulk Packaging entry “143” to read “243.”

• The entry “Aerosols, corrosive, Packing Group II or III, (each not exceeding 1 L capacity),” UN1950, is revised by correcting the Column (7) Special provisions to remove “153.”

• The entry “Aerosols, flammable, (each not exceeding 1 L capacity),” UN1950, is revised by correcting the Column (7) Special provisions to remove “153.”

• The entry “Aerosols, flammable, n.o.s. (engine starting fluid) (each not exceeding 1 L capacity),” UN1950, is revised by correcting the Column (7) Special provisions to remove “153.”

• The entry “Aerosols, non-flammable, (each not exceeding 1 L capacity),” UN1950, is revised by correcting the Column (7) Special provisions to remove “153.”

• The entry “Aerosols, poison, each not exceeding 1 L capacity,” UN1950, is revised by correcting the Column (7) Special provisions to remove “153.”

• For the Packing Group III entry for “Alcohols, flammable, toxic, n.o.s.,” UN1986 is revised by correcting the Column (8A) Packaging Exceptions entry “None” to read “150.”

• The entry “Alkaloids, solid, n.o.s. [or] Alkaloid salts, solid, n.o.s. [poisonous],” UN1544 is revised by correcting the Column (2) Hazardous materials description and proper shipping name to read “Alkaloids, solid, n.o.s. or Alkaloid salts, solid, n.o.s. poisonous.” The correction appears as a “Remove/Add” in this rulemaking.

• The entry “Aluminium alkyl halides, solid,” UN3641 is revised by correcting the Column (2) Hazardous materials description and proper shipping name to read “Aluminum alkyl halides, solid.” The correction appears as a “Remove/Add” in this rulemaking.

• The entry “Ammonium nitrate emulsion or Ammonium nitrate suspension or Ammonium nitrate gel, intermediate for blasting explosives,” UN3375 is revised by correcting the Column (6) Label Codes to add “5.1.”

• The entry “5-tert-Butyl-2,4,6-trinitro-m-xylene or Musk xylene,” UN2956 is revised by correcting the Column (10B) Vessel stowage, Other entry “D12” to read “12.”

• The entry “Calcium arsenate,” UN1573 is revised by correcting the Column (8A) Packaging Exceptions entry “152” to read “153.”

• The entry “Calcium arsenate and calcium arsenite, mixtures, solid,” UN1574 is revised by correcting Column (8A) Packaging Exceptions entry “152” to read “153.”

• The entry “Cartridges power device (used to project fastening devices),” is revised by placing the entry in the correct alphabetical order in the HMT. The correction appears as a “Remove/Add” in this rulemaking.

• The entry “Chlorate and magnesium chloride mixture, solid,” UN1459 is revised by placing the Packing Group III entry immediately following the Packing Group II entry. The correction appears as a “Remove/Add” in this rulemaking.

• The entry “Chloroacetonitrile,” UN2668 is revised by correcting Column (7) Special provisions entry “IB99” to read “IB9.”

• The entry “Chloroacetophenone, liquid CN,” UN3416 is revised by correcting the Column (2) Hazardous materials description and proper shipping name to read “Chloroacetophenone, liquid CN.” The correction appears as a “Remove/Add” in this rulemaking.

• The entry “Chloroacetophenone, solid (CN),” UN1697 is revised by correcting the Column (2) Hazardous materials description and proper shipping name to read “Chloroacetophenone, solid CN.” The correction appears as a “Remove/Add” in this rulemaking.

• The entry “Chlorodinitro-benzenes, solid,” UN3441 is revised by correcting the Column (1) Symbols to add “+.” In addition, the Column (2) Hazardous materials description and proper shipping name entry is corrected to read “Chlorodinitrobenzenes, solid. The correction appears as a “Remove/Add” in this rulemaking.

• The packing group I entry “Corrosive liquids, toxic, n.o.s.,” UN2922 is revised by correcting the Column (7) Special provisions entries “A7, A6” to read “A6, A7.”

• The entry “Cyclotrimethylenenitramine and octogen, mixtures, wetted or desensitized see RDX and HMX mixtures, wetted or desensitized etc.,” by correcting the Column (2) Hazardous materials description and proper shipping name to read “Cyclotrimethylenenitramine and oxygen mixtures, wetted or desensitized see RDX and HMX mixtures, wetted or desensitized etc.” The correction appears as a “Remove/Add” in this rulemaking.

• The entry “Cyclotrimethylenenitramine and HMX mixtures, wetted or desensitized see RDX and HMX mixtures, wetted or desensitized etc.,” is revised by placing the entry in the correct alphabetical order in the HMT. The correction appears as a “Remove/Add” in this rulemaking.

• The entry “Detonators, non-electric, for blasting,” UN0455 is revised by correcting the Column (10A) Vessel stowage, Location entry “5” to read “05.”

• The entry “2-Dimethylaminoacetonitrile,” UN2378 is revised by correcting the Column (10B) Vessel stowage, Other entry “52, 40” to read “40, 52.”

• The entry “Dinitrotoluenes, molten,” UN1600 is revised by placing the entry in the correct alphabetical order in the HMT. The correction appears as a “Remove/Add” in this rulemaking.

• The entry “Dinitrotoluenes, solid,” UN3454 is revised by placing the entry in the correct alphabetical order in the HMT. The correction appears as a “Remove/Add” in this rulemaking.

• The entry “Diphenyl-chloroarsine, solid,” by correcting the Column (2) Hazardous materials description and proper shipping name to read “Diphenylchloroarsine, solid.” The correction appears as a “Remove/Add” in this rulemaking.

• The entry “N-Ethylbenzyltoluidines, solid,” UN3460 is revised by placing the entry in the correct alphabetical order in the HMT. The correction appears as a “Remove/Add” in this rulemaking.

• The entry “Explosive, blasting, type A,” UN0081 is revised by correcting the Column (10B) Vessel stowage, Other entry “21E, 29E” to read “19E, 21E.”

• The entry “Explosive, blasting, type B,” UN0082 is revised by correcting the Column (10B) Vessel stowage, Other entry “29E” to read “19E.”

• The entry “Explosive, blasting, type B or Agent blasting, Type B,” UN0331 is revised by correcting the Column (10B) Vessel stowage, Other entry “29E” to read “19E.”

• The entry “Explosive, blasting, type E,” UN0241 is revised by correcting the Column (10B) Vessel stowage, Other entry “19E, 29E” to read “19E.”

• The entry “Explosive, blasting, type E or Agent blasting, Type E,” UN0332 is revised by correcting the Column (10B) Vessel stowage, Other entry “29E” to read “19E.”

• The entry “Fibers, animal or Fibers, vegetable burnt, wet or damp,” UN1372 is revised by correcting the Column (6) Label Codes to add “4.2.”

• The entry “Fibers, vegetable, dry,” UN3360 is revised by correcting the Column (5) PG to add “III.”

• The entry “Fumigated transport vehicle or freight container see 173.9,” is revised by correcting the Column (2) Hazardous materials description and proper shipping name to read “Fumigated transport vehicle or freight container see § 173.9.” The correction appears as a “Remove/Add” in this rulemaking.

• The entry “Gasoline,” UN1203 is revised by correcting Column (7) Special provisions entries “139, B33, B101, T8” to read “144, B33, T8.”

• The entry “Hydrogen iodide solution, see Hydriodic acid solution,” is revised by correcting the Column (2) Hazardous materials description and proper shipping name to read “Hydrogen iodide solution, see Hydriodic acid.” The correction appears as a “Remove/Add” in this rulemaking.

• The entry “Hydrogen peroxide and peroxyacetic acid mixtures, stabilized with acids, water and not more than 5 percent peroxyacetic acid,” UN3149 is revised by correcting Column (7) Special provisions entries to remove “IP5.”

• The entry “Hydrogen peroxide, aqueous solutions with not less than 20 percent but not more than 40 percent hydrogen peroxide (stabilized as necessary),” UN2014 is revised by correcting Column (7) Special provisions entries to remove “IP5.”

• The entry “Hydrogen peroxide, aqueous solutions with not less than 8 percent but not more than 20 percent hydrogen peroxide (stabilized as necessary),” UN2984 is revised by correcting Column (7) Special provisions entries to remove “IP5.”

• The entry “Hypochlorite solutions,” UN1791, PG II is revised by correcting Column (7) Special provisions entries to remove “IP5.”

• The entry “Isopropyl nitrate,” UN1222 is revised by correcting Column (7) Special provisions entry “IB99” to read “IB9.”

• The entry “Lead perchlorate, solution,” UN3408 is revised to correctly list the PG II entry before the PG III entry. The correction appears as a “Remove/Add” in this rulemaking.

• The entry “Lithium alkyls, liquid,” UN2445 is revised by correcting Column (7) Special provisions to add “173.”

• The entry “Lithium alkyls, solid,” UN3433 is revised by correcting Column (7) Special provisions to add “173.”

• The entry “Lithium batteries, contained in equipment,” UN3091 is revised by correcting Columns (9A) and (9B) Quantity limitations to read “See A102, A104” and “35 kg” respectively. In a December 15, 2004 interim final rule (69 FR 75215), we imposed a limited prohibition on offering for transportation and transportation of primary (non-rechargeable) lithium batteries and cells as cargo aboard passenger-carrying aircraft and equipment containing or packed with large primary lithium batteries. In addition, a typographical error which occurred, in Column (9B), during the printing process is corrected.

• The entry “Lithium batteries packed with equipment,” UN3091 is revised by correcting Column (9A) Quantity limitations to read “See A101, A103.” In a December 15, 2004 interim final rule (69 FR 75215), we imposed a limited prohibition on offering for transportation and transportation of primary (non-rechargeable) lithium batteries and cells as cargo aboard passenger-carrying aircraft and equipment containing or packed with large primary lithium batteries.

• The entry “Lithium battery,” UN3090 is revised by correcting Column (9A) Quantity limitations to read “See A100.” In a December 15, 2004 interim final rule (69 FR 75215), we imposed a limited prohibition on offering for transportation and transportation of primary (non-rechargeable) lithium batteries and cells as cargo aboard passenger-carrying aircraft and equipment containing or packed with large primary lithium batteries.

• The entry “Magnesium diphenyl,” UN2005 is revised by correcting Column (7) Special provisions to add “173.”

• The entry “2-Methlybutanal,” UN3371 is revised by correcting Column (6) Label Codes to add “3.” In addition, Column (7) Special provisions was revised by correcting the entry “3IB2” to read “IB2.”

• The entry “Methyl mercaptopropionaldehyde, see Thia-4-pentanal,” is revised by correcting the Column (2) Hazardous materials description and proper shipping name to read “Methyl mercaptopropionaldehyde, see 4-Thiapentanal.” The correction appears as a “Remove/Add” in this rulemaking.

• The entry “beta-Naphthylamine,” UN1650 is removed. New proper shipping names “beta-Naphthylamine, solid” and “beta-Naphthylamine, solution” were added (69 FR 76115).

• The entries for “Nitriles, toxic, liquid, n.o.s.,” UN3276, PG I, II and III are revised to correctly list the entries in accordance with their packing groups. The correction appears as a “Remove/Add” in this rulemaking.

• The entries for “Nitriles, toxic, solid, n.o.s.,” UN3439, PG I, II, and III are revised to correctly list the entries in accordance with their packing groups. The correction appears as a “Remove/Add” in this rulemaking.

• The entries “Nitrocresols, solid,” UN2446 and “Nitrocresols, liquid,” UN3434 are revised by correcting the Column (2) Hazardous materials description and proper shipping name to correctly list these entries in alphabetical order. The correction appears as a “Remove/Add” in this rulemaking.

• The entry “Nitrogen peroxide, see Dinitrogen tetroxide,” is revised by correcting the Column (2) Hazardous materials description and proper shipping name to read “Nitrogen peroxide, see, Dinitrogen tetroxide.” The correction appears as a “Remove/Add” in this rulemaking.

• The entry “4-Nitrophenylhydrazine, with not less than 30% water, by mass,” UN3376 is revised by correcting the Column (2) Hazardous materials description and proper shipping name to correctly list this entry in alphabetical order. The correction appears as a “Remove/Add” in this rulemaking.

• The entry “2,5-Norbornadiene, stabilized, see Bicyclo 2,2,1 hepta-2,5-diene, stabilized,” is revised by correcting the Column (2) Hazardous materials description and proper shipping name to read “2,5-Norbornadiene, stabilized, see Bicyclo 2,2,1 hepta-2,5-diene, stabilized,” and to correctly list this entry in alphabetical order. This correction appears as a “Remove/Add” in this rulemaking.

• The entry “Organoarsenic compound, liquid, n.o.s.,” UN3280, PG I, Columns (9A) and (9B) are revised to read “1 L and 30 L,” respectively. The typographical errors in the two quantity limitations occurred during the printing process.

• The entry “Organoarsenic compound, liquid, n.o.s.,” UN3280, PG II, Columns (9A) and (9B) are revised to read “5 L and 60 L,” respectively. The typographical errors in the two quantity limitations occurred during the printing process.

• The entry “Organoarsenic compound, liquid, n.o.s.,” UN3280, PG III, Columns (9A) and (9B) are revised to read “60 L and 220 L,” respectively. The typographical errors in the two quantity limitations occurred during the printing process.

• The entry “Organometallic compound, toxic, liquid, n.o.s.,” UN3282, PG I, Columns (9A) and (9B) are revised to read “1 L and 30 L,” respectively. The typographical errors in the two quantity limitations occurred during the printing process.

• The entry “Organometallic compound, toxic, liquid, n.o.s.,” UN3282, PG II, Columns (9A) and (9B) are revised to read “5 L and 60 L,” respectively. The typographical errors in the two quantity limitations occurred during the printing process.

• The entry “Organometallic compound, toxic, liquid, n.o.s.,” UN3282, PG III, Columns (9A) and (9B) are revised to read “60 L and 220 L,” respectively. The typographical errors in the two quantity limitations occurred during the printing process.

• The entry “Organometallic substance, liquid, water-reactive,” UN3398, PG I, is revised by correcting the Column (9B) Quantity limitations entry “Forbidden” to read “1 L.”

• The entry “Organometallic substance, liquid, water-reactive, flammable,” UN3399, PG I, is revised by correcting the Column (9B) Quantity limitations entry “Forbidden” to read “1 L.”

• The entry “Organometallic substance, liquid, water-reactive, flammable,” UN3399, PG II, is revised by correcting the Column (7) Special provisions to add “IP2” and correcting the Columns (9A) and (9B) Quantity limitations entry “Forbidden” to read “1 L and 5 L” respectively.

• The entry “Organometallic substance, liquid, water-reactive, flammable,” UN3399, PG III, is revised by correcting the Column (7) Special provisions to add “IP4” and correcting the Columns (9A) and (9B) Quantity limitations entry “Forbidden” to read “5 L and 60 L” respectively.

• The entries “Phenyl urea pesticides, liquid, toxic,” UN3002, PG I, II and III are added to the HMT respectively. The entries were inadvertently removed during the printing process.

• The entry “Phosphorus,” UN2198 is revised by correcting the Column (2) Hazardous materials description and proper shipping name to read “Phosphorus Pentafluoride.” The correction appears as a “Remove/Add” in this rulemaking.

• The entry “Potassium metal, liquid alloy, see Alkali metal alloys, liquid, n.o.s.,” is removed. New proper shipping names “Potassium metal alloys, liquid” and “Potassium metal alloys, solid” were added (69 FR 76129).

• The entries “Potassium sodium alloys, solid,” UN3404 and “Potassium sodium alloys, liquid,” UN1442 are revised by correcting the Column (2) Hazardous materials description and proper shipping name to correctly list these entries in alphabetical order. The correction appears as a “Remove/Add” in this rulemaking.

• The entry “n-Propyl nitrate,” UN1865 is revised by correcting Column (7) Special provisions entry “IB99” to read “IB9.”

• An erroneous entry immediately following the entry “Receptacles, small, containing gas (gas cartridges) non-flammable, without release device, not refillable and not exceeding 1 L capacity,” UN2037 is removed. The correction appears as a “Remove/Add” in this rulemaking.

• The entry “Refrigerating machines, containing non-flammable, non-toxic, or ammonia solution (UN2672),” UN2857 is revised by correcting the Column (2) Hazardous materials description and proper shipping name to read “Refrigerating machines, containing non-flammable, non-toxic gases, or ammonia solutions (UN2672).” The correction appears as a “Remove/Add” in this rulemaking.

• The entries for “Rubber solution,” UN1287, PG II, and III to correctly list the entries in accordance with their packing groups. The correction appears as a “Remove/Add” in this rulemaking.

• The entry for “Samples, explosive, other than initiating explosives,” UN1090, is added to the HMT. The entry was inadvertently removed during the printing process.

• The entries for “Selenium compound, liquid, n.o.s.,” UN3440, PG I, II and III are revised to correctly list the entries in accordance with their packing groups. The correction appears as a “Remove/Add” in this rulemaking.

• The entries for “Selenium compound, solid, n.o.s.,” UN3283, PG I, II, and III are revised to correctly list the entries in accordance with their packing groups. The correction appears as a “Remove/Add” in this rulemaking.

• The entry “Self-reactive liquid type F,” UN3229 is revised by correcting Column (7) Special provisions to remove “T23.”

• The entry “Sulfur,” NA1350 is revised by correcting Column (7) Special provisions entry “10” to read “30.”

• The entry “Sulfur, molten,” UN2448 is revised by correcting the Column (10B) Vessel stowage, Other entry “61” to read “74.”

• The entry “Sulfuric acid, fuming with less than 30 percent free sulfur trioxide,” UN1831 is revised by correcting Column (7) Special provisions entry “B84, N34, T20, TP2, TP12, TP13” to read “A3, A7, B84, N34, T20, TP2, TP12, TP13.”

• The entry “Sulfuric acid, fuming with 30 percent or more free sulfur trioxide,” UN1831 is revised by correcting Column (7) Special provisions entry “2, A3, A6, A7, B9, B14, B32, B74, B77, B84, N34, T20, TP2, TP12, TP13” to read “2, B9, B14, B32, B74, B77, B84, N34, T20, TP2, TP12, TP13.”

• The entry “Toxic by inhalation liquid, n.o.s. with an inhalation toxicity lower than or equal to 1000 ml/m3 and saturated vapor concentration greater than or equal to 10 LC50,” UN3382 is revised by correcting and typographical error in Column (2) and correcting Column (7) Special provisions entry “2, B9, B14, B32, B74, T20, TP2, TP13, TP27, TP38, TP4527, TP38, TP4513” to read “2, B9, B14, B32, B74, T20, TP2, TP13, TP27, TP38, TP45.” The correction appears as a “Remove/Add” in this rulemaking.

• The entry “Toxins, extracted from living sources, solid, n.o.s.,” UN3462 is revised by correcting Column (1) Symbols to add “G.”

• The entries “1,1,1-Trifluoroethane or Refrigerant gas, R 143a,” UN2035 and “Trifluoromethane, refrigerated liquid,” UN3136 are revised by correcting the Column (2) Hazardous materials description and proper shipping name to correctly list these entries in alphabetical order. The correction appears as a “Remove/Add” in this rulemaking.

• The entry “Trinitrobenzene (picryl chloride), wetted, with not less than 10% water by mass,” UN3365 is revised by correcting the Column (2) Hazardous materials description and proper shipping name to read “Trinitrochlorobenzene (picryl chloride), wetted, with not less than 10% water by mass.” The correction appears as a “Remove/Add” in this rulemaking.

Section 172.102

We are correcting entries in the Special Provisions as follows:

• In paragraph (c)(1), Special Provision 173 is added. In the final rule we adopted an array of new generic UN entries for organometallic substances to harmonize with the UN Recommendations. These new generic entries are intended to be used for all organometallic substances, with all existing generic entries covering these substances being deleted. Consistent with the UN Recommendations, the final rule removed certain existing generic entries covering these materials, while certain entries for these materials were temporarily retained. The entries concerned are UN1366, UN1370, UN2005, UN2445, UN3051, UN3052, UN3076, UN3433 and UN3461. In the final rule, we included a statement in the preamble (69 FR 76048) stating our intent to remove these entries effective January 1, 2007.

However, in the UN Recommendations, Special Provision 320 was added to each of the affected entries scheduled for removal in 2007 that allows the appropriate new generic organometallic substances entry to be used in place of the technical name entry irrespective of the requirements in 2.0.2.2 of the UN Recommendations (which would otherwise require use of the technical name entry). The final rule, in error, failed to adopt a similar provision to that in UN Special Provision 320. Consequently, § 172.101(c)(12)(ii) would appear to preclude use of the new generic entries until such time the technical name entries are removed from the Hazardous Materials Table. Therefore, we are correcting this inconsistency by adding to the affected entries a Special Provision 173 stating that “An appropriate generic entry may be used.”

• In paragraph (c)(3), in Special Provision B69, we are correcting the last sentence by adding the word “be” after the word “must” and before the word “approved.” During the printing process the word “be” was inadvertently omitted.

• In paragraph (c)(4), in the “Table 1—IB Codes,” in the first column, under the heading “IBC Code,” the wording “B2” is corrected to read “IB2.” The typographical error occurred during the printing process.

• In paragraph (c)(4), in the “Table 1—IB Codes,” in the second column, under the heading “Authorized IBCs,” in the Additional Requirement entry for “IB3,” the reference to “Table 3” is corrected to read “Table 2.” The typographical error occurred during the printing process.

• In paragraph (c)(7), in the “Table of Portable Tank T Codes T1-T22,” in the fifth column, the first entry “§ 178.275(d)(2)⁰” is corrected to read “§ 178.275(d)(2).” The typographical error occurred during the printing process.

• In paragraph (c)(8), in portable tank special provision “TP3,” the formula is corrected by revising “dr” and “df” to read “dr” and “df.” The typographical error occurred during the printing process.

Section 172.202

In paragraph (a)(5)(i), in the first sentence, the wording “For Class I materials” is corrected to read “For Class 1 materials”. The typographical error occurred during the printing process.

Section 172.203

Paragraph (m)(2) is revised to clarify that the phrase “Poison-Inhalation Hazard” or “Toxic Inhalation Hazard” need not be added to the shipping description if the words “Poison Inhalation” or “Toxic Inhalation” otherwise appear in the shipping description.

Part 173

Section 173.3

In the December 20, 2004 final rule, we revised the requirements for use of salvage drums to include the term “non-conforming.” The term “non-conforming” was added to the UN Model Regulations by the UN Committee of Experts in 2000. Our intent in the final rule was to allow the use of salvage drums for non-conforming packages, but to limit such use to instances where the packages were discovered to be non-conforming after having been placed in transportation. However, we inadvertently applied the limitation to damaged, defective, and leaking packages as well as to non-conforming packages. We are therefore revising 173.3(c) to clarify that damaged, defective, or leaking packages may be transported in salvage drums under the specified conditions irrespective of whether such packages are discovered before or after having been place in transportation. This would allow, for example, a package found leaking at a fixed storage facility to be transported in a salvage drum for purposes of recovery or disposal.

Section 173.25

In § 173.25, paragraph (a)(4) is revised to clarify that overpacks marked with an indication that inner containers comply with prescribed specification may be used to satisfy the “OVERPACK” marking until October 1, 2007. The “inner container comply with prescribed specifications” marking remains in effect for cylinders or containers packaged in a strong non-bulk outer packaging that are specifically required elsewhere in this part to be marked in this manner.

Section 173.115

In § 173.115, we are making the following corrections:

• In paragraph (a)(2), the last sentence is corrected to reference “§ 173.115(k)” regarding the flammability tests for aerosols.

• In paragraph (k)(3), a grandfather provision that would authorize an aerosol that was tested prior to January 1, 2006 in accordance with the requirements in effect on December 31, 2005 is not required to be retested.

The wording was inadvertently omitted.

Section 173.151

In § 173.151, in paragraph (c), in the first sentence, the wording “171.8” is corrected to read “§ 171.8.” The typographical error occurred during the printing process.

Section 173.185

In § 173.185, in paragraph (e)(6), in the second sentence, the wording “of a design type” is added after the word “battery” and before the word “which.” The wording was inadvertently omitted during the printing process.

Section 173.212

In § 173.212, in paragraph (c), the entry “Glass, porcelain or stoneware in steel, aluminum, wooden or fiberboard box: 6PA2, 6PB1, 6PC or 6PG2” is corrected to read “Glass, porcelain or stoneware in steel, aluminum, wooden or fiberboard box: 6PA2, 6PB2, 6PC or 6PG2.” A typographical error occurred during the printing process.

Section 173.213

In § 173.213, in paragraph (c), the entry “Glass, porcelain or stoneware in steel, aluminum, wooden or fiberboard box: 6PA2, 6PB1, 6PC or 6PG2” is corrected to read “Glass, porcelain or stoneware in steel, aluminum, wooden or fiberboard box: 6PA2, 6PB2, 6PC or 6PG2.” A typographical error occurred during the printing process.

Section 173.220

In § 173.220, we are making the following corrections:

• In paragraph (a)(3), the reference to paragraph “(d)(1)” is corrected to read “(e)(1).”

• In paragraph (g), the reference to paragraph “(d)(2)” is corrected to read “(e)(2).”

These typographical errors occurred during the printing process.

Section 173.225

In § 173.225, we are making the following corrections:

• In paragraph (c)(8), in the “Organic Peroxide Table,” for the entry “Dicumyl peroxide, UN3110, the number “9” is added to “column 8.”

• In paragraph (c)(8), in the “Organic Peroxide Table,” under “Notes,'' Note 12 is corrected by revising the reference to “paragraph (c)(2)” to read “paragraph (b)(2).” In paragraph (g), in the “Organic Peroxide Portable Tank Table,” for the entry “ORGANIC PEROXIDE, TYPE F, LIQUID, UN3109,” the word “than” is added immediately after the word “more” and before the wording “72%” for the entries “Isopropyl cumyl hydroperoxide, not more 72% in diluent type A” and “p-Menthyl hydro-peroxide, not more 72% in diluent type A,” respectively.

• Paragraph (h)(3)(xii) is revised specify that DOT 57 metal portable tanks are authorized for those materials that are provided with a reference to Note 9 in Column 8 of the Organic Peroxide Table and that when authorized these tanks must conform to the venting requirements specified in § 173.225(f). In the NPRM, we proposed to remove “Note 9.” However, as a result of comments received on the NPRM that proposal was not adopted.

• In the December 20, 2004 final rule, we added Note 29 to the notes following the Organic Peroxide Table. The note was used to identify materials which are found in the HMR, but not included in the UN Model Regulations, IMDG Code, and the ICAO Technical Instructions and to indicate that a Competent Authority approval is required for international transportation. However, it is not our policy to require approvals for organic peroxide formulations listed in the HMR but not in the international regulations. Therefore, Note 29 is being removed. However, in accordance with §§ 171.11(d)(17), 171.12(b)(20), and 171.12a(b)(18) a Competent Authority approval, issued by the Associate Administrator, is still required for shipments of organic peroxides which are not identified by technical name in the Organic Peroxide Table (also see § 173.128(d)).

Section 173.227

In § 173.227, paragraph (b)(1) is being reinstated. This paragraph was inadvertently omitted during the printing process.

Section 173.313

In § 173.313, in the “UN Portable Tank Table for Liquefied Compressed Gases,” the following corrections are made:

• Immediately following the entry “Methyl chloride and methylene chloride mixture, UN1912,” in the first and second columns respectively, the wording “1954” and “n.o.s.” are removed. In addition, in the sixth column the wording “0.81194” is corrected to read “0.81.”

• Immediately following the entry “Insecticide gases, flammable,” in the first and second columns, the wording “1954” and “n.o.s.” are added respectively. These typographical errors occurred during the printing process.

Part 175

Section 175.30

In § 175.30, paragraph (a)(5) is removed. Paragraph (a)(5) required hazardous materials being accepted for transportation aboard an aircraft to be marked with the air eligibility marking in accordance with § 172.321. In the final rule (69 FR 76154), we removed the requirement for shippers to mark packages acceptable for air transport with the air eligibility marking.

Part 176

Section 176.83

In § 176.83, in paragraph (l)(3), in the “Segregation of Cargo Transport Units on Board Hatchless Container Ships,” the following corrections are made:

• For the entry “Away from,” the first word in the tenth and eleventh columns are corrected to read “One.”

• For the entry “Separated by a complete compartment or hold from,” in the tenth column, in the second sentence, the word “Tree” is corrected to read “Three.” The typographical errors occurred during the printing process.

Part 178

Section 178.274

In § 178.274, in paragraph (f)(1)(v), the wording “(IBR, see § 171.1 of this subchapter)” is corrected to read “(IBR, see § 171.7 of this subchapter).” The typographical error occurred during the printing process.

Part 180

Section 180.352

In the final rule, we added a new paragraph (d)(1)(v) authorizing retests and inspections performed under paragraphs (d)(1)(i) and (d)(1)(ii) of this section to be used to satisfy the tests and inspections required of paragraph (b) of this section. However, an editorial error occurred during the printing process that caused the text in new paragraph (d)(1)(v) to be repeated in paragraph (d)(1)(iv). Additionally, the editorial error in paragraph (d)(1)(iv) created an incorrect lead-in to subparagraphs (A) and (B) that follow. The original intent of this change was to keep the “repair” and “routine maintenance” requirements in this section separate. Therefore, we are revising paragraph (d)(1)(iv) to correct this editorial error.

III. Regulatory Analyses and Notices

A. Statutory/Legal Authority for This Rulemaking

This final rule is published under the following statutory authorities:

1. 49 U.S.C. 5103(b) authorizes the Secretary of Transportation to prescribe regulations for the safe transportation, including security, of hazardous material in intrastate, interstate, and foreign commerce. This final rule corrects various errors made during the development of the December 20, 2004 final rule and printing process. To this end, as discussed in detail earlier in this preamble, the December 20, 2004 final rule amended the HMR to more fully align it with the biennial updates of the UN Recommendations, the IMDG Code and the ICAO Technical Instructions to facilitate the transport of hazardous materials in international commerce.

2. 49 U.S.C. 5120(b) authorizes the Secretary of Transportation to ensure that, to the extent practicable, regulations governing the transportation of hazardous materials in commerce are consistent with standards adopted by international authorities. This final rule corrects various errors made during the development of the December 20, 2004 final rule and printing process. To this end, as discussed in detail earlier in this preamble, the December 20, 2004 final rule incorporates changes into the HMR based on the Thirteenth Revised Edition of the UN Recommendation, Amendment 32 to the IMDG Code, and the 2005-2006 ICAO Technical Instructions, which became effective January 1, 2005. The continually increasing amount of hazardous materials transported in international commerce warrants the harmonization of domestic and international requirements to the greatest extent possible. Harmonization serves to facilitate international transportation; at the same time, harmonization ensures the safety of people, property, and the environment by reducing the potential for confusion and misunderstanding that could result if shippers and transporters were required to comply with two or more conflicting sets of regulatory requirements. While the intent of this rulemaking is to align the HMR with international standards, we review and consider each amendment on its own merit based on its overall impact on transportation safety and the economic implications associated with its adoption into the HMR. Our goal is to harmonize without sacrificing the current HMR level of safety and without imposing undue burdens on the regulated public. Thus, as discussed in detail in the preamble of the December 20, 2004 final rule, there were several instances where we elected not to adopt a specific provision of the UN Recommendations, the IMDG Code or the ICAO Technical Instructions; further, we are maintaining a number of current exceptions for domestic transportation that should minimize the compliance burden on the regulated community.

B. Executive Order 12866 and DOT Regulatory Policies and Procedures

This final rule is not a significant regulatory action under section 3(f) of Executive Order 12866 and was not reviewed by the Office of Management and Budget. This final rule is a non-significant rule under the Regulatory Policies and Procedures of the Department of Transportation [44 FR 11034]. The revisions adopted in this final rule do not alter the cost-benefit analysis and conclusions contained in the Regulatory Evaluation prepared for the December 20, 2004 final rule. The Regulatory Evaluation is available for review in the public docket for this rulemaking.

C. Executive Order 13132

This final rule has been analyzed in accordance with the principles and criteria contained in Executive Order 13132 (“Federalism”). This final rule preempts State, local and Indian tribe requirements but does not propose any regulation that has substantial direct effects on the States, the relationship between the national government and the States, or the distribution of power and responsibilities among the various levels of government. Therefore, the consultation and funding requirements of Executive Order 13132 do not apply.

The Federal hazardous material transportation law, 49 U.S.C. 5101-5127, contains an express preemption provision (49 U.S.C. 5125(b)) that preempts State, local, and Indian tribe requirements on certain covered subjects. Covered subjects are:

(1) The designation, description, and classification of hazardous materials;

(2) The packing, repacking, handling, labeling, marking, and placarding of hazardous materials;

(3) The preparation, execution, and use of shipping documents related to hazardous materials and requirements related to the number, contents, and placement of those documents;

(4) The written notification, recording, and reporting of the unintentional release in transportation of hazardous materials; and

(5) The design, manufacture, fabrication, marking, maintenance, recondition, repair, or testing of a packaging or container represented, marked, certified, or sold as qualified for use in transporting hazardous material.

This final rule addresses covered subject items (1), (2), (3), and (5) above and preempts State, local, and Indian tribe requirements not meeting the “substantively the same” standard. This final rule is necessary to incorporate changes adopted in international standards, effective January 1, 2005. If the changes in this final rule are not adopted in the HMR, U.S. companies, including numerous small entities competing in foreign markets, are at an economic disadvantage. These companies are forced to comply with a dual system of regulations. The changes in this rulemaking are intended to avoid this result. Federal hazardous materials transportation law provides at section 5125(b)(2) that, if DOT issues a regulation concerning any of the covered subjects, DOT must determine and publish in the Federal Register the effective date of Federal preemption. The effective date may not be earlier than the 90th day following the date of issuance of the final rule and not later than two years after the date of issuance. The effective date of Federal preemption is September 12, 2005.

D. Executive Order 13175

This final rule was analyzed in accordance with the principles and criteria contained in Executive Order 13175 (“Consultation and Coordination with Indian Tribal Governments”). Because this final rule does not have tribal implications, does not impose substantial direct compliance costs, and is required by statute, the funding and consultation requirements of Executive Order 13175 do not apply.

E. Regulatory Flexibility Act, Executive Order 13272, and DOT Procedures and Policies

The Regulatory Flexibility Act (5 U.S.C. 601 et seq.) requires an agency to review regulations to assess their impact on small entities unless the agency determines that a rule is not expected to have a significant impact on a substantial number of small entities. The corrections contained in this final rule will have little or no effect on the regulated industry. Based on the assessment in the regulatory evaluation, to the December 20, 2004 final rule, I hereby certify that, while this rule applies to a substantial number of small entities, there will not be a significant economic impact on those small entities. A detailed Regulatory Flexibility analysis is available for review in the docket.

This final rule has been developed in accordance with Executive Order 13272 (“Proper Consideration of Small Entities in Agency Rulemaking”) and DOT's procedures and policies to promote compliance with the Regulatory Flexibility Act to ensure that potential impacts of draft rules on small entities are properly considered.

F. Paperwork Reduction Act

This final rule imposes no new information collection requirements.

G. Regulatory Identifier Number (RIN)

A regulation identifier number (RIN) is assigned to each regulatory action listed in the Unified Agenda of Federal Regulations. The Regulatory Information Service Center publishes the Unified Agenda in April and October of each year. The RIN contained in the heading of this document can be used to cross-reference this action with the Unified Agenda.

H. Unfunded Mandates Reform Act

This final rule does not impose unfunded mandates under the Unfunded Mandates Reform Act of 1995. It does not result in costs of $120.7 million or more to either State, local or tribal governments, in the aggregate, or to the private sector, and is the least burdensome alternative that achieves the objective of the rule.

I. Environmental Assessment

The National Environmental Policy Act of 1969 (NEPA) requires Federal agencies to consider the consequences of major Federal actions and prepare a detailed statement on actions significantly affecting the quality of the human environment. In the December 20, 2004 final rule, we developed an assessment to determine the effects of these revisions on the environment and whether a more comprehensive environmental impact statement may be required. Our findings conclude that there are no significant environmental impacts associated with this final rule. Consistency in the regulations for the transportation of hazardous materials aids in the shipper's understanding of what is required and permits shippers to more easily comply with safety regulations and avoid the potential for environmental damage or contamination. For interested parties, an environmental assessment is available in the public docket.

J. Privacy Act

Anyone is able to search the electronic form of any written communications and comments received into any of our dockets by the name of the individual submitting the document (or signing the document, if submitted on behalf of an association, business, labor union, etc.). You may review DOT's complete Privacy Act Statement in the Federal Register published on April 11, 2000 (Volume 65, Number 70; Pages 19477-78) or you may visit http://dms.dot.gov.

List of Subjects

49 CFR Part 172

Education, Hazardous materials transportation, Hazardous waste, Incorporation by reference, Labeling, Markings, Packaging and containers, Reporting and recordkeeping requirements.

49 CFR Part 173

Hazardous materials transportation, Incorporation by reference, Packaging and containers, Radioactive materials, Reporting and recordkeeping requirements, Uranium.

49 CFR Part 175

Air carriers, Hazardous materials transportation, Incorporation by reference, Radioactive materials, Reporting and recordkeeping requirements.

49 CFR Part 176

Hazardous materials transportation, Incorporation by reference, Maritime carriers, Radioactive materials, Reporting and recordkeeping requirements.

49 CFR Part 178

Hazardous materials transportation, Incorporation by reference, Motor vehicle safety, Packaging and containers, Reporting and recordkeeping requirements.

49 CFR Part 180

Hazardous materials transportation, Motor carriers, Motor vehicle safety, Packaging and containers, Railroad safety, Reporting and recordkeeping requirements.

In consideration of the foregoing, 49 CFR Chapter I is amended as follows:

PART 172—HAZARDOUS MATERIALS TABLE, SPECIAL PROVISIONS, HAZARDOUS MATERIALS COMMUNICATIONS, EMERGENCY RESPONSE INFORMATION, AND TRAINING REQUIREMENTS

1. The authority citation for part 172 continues to read as follows:

Authority: 49 U.S.C. 5101-5127; 49 CFR 1.53.

2. In § 172.101, the Hazardous Materials Table is amended by removing, adding and revising, in the appropriate alphabetical sequence, the following entries to read as follows:

§ 172.101 Hazardous Materials Table
Symbols | Hazardous materials descriptions and proper shipping names | Hazard class or division | Identification nos. | PG | Label codes | Special provisions | (8) Packaging (§ 173.* * *): Exceptions | (8) Packaging (§ 173.* * *): Non-bulk | (8) Packaging (§ 173.* * *): Bulk | (9) Quantity limitations: Passenger aircraft/rail | (9) Quantity limitations: Cargo aircraft only | (10) Vessel stowage: Location | (10) Vessel stowage: Other
(1) | (2) | (3) | (4) | (5) | (6) | (7) | (8A) | (8B) | (8C) | (9A) | (9B) | (10A) | (10B)
| [REMOVE:]
* * * * * * *
G | Alkaloids, solid, n.o.s. [or] Alkaloid salts, n.o.s. [poisonous] | 6.1 | UN1544 | I | 6.1 | IB7, IP1, T6, TP33 | None | 211 | 242 | 5 kg | 50 kg | A |
|  |  | II | 6.1 | IB8, IP2, IP4, T3, TP33 | 153 | 212 | 242 | 25 kg | 100 kg |  | A
|  |  |  | III | 6.1 | IB8, IP3, T1, TP33 | 153 | 213 | 240 | 100 kg | 200 kg | A |
* * * * * * *
| Aluminium alkyl halides, solid | 4.2 | UN3461 | I | 4.2, 4.3 | T21, TP7, TP33 | None | 181 | 244 | Forbidden | Forbidden | D | 134
* * * * * * *
| beta-Naphthylamine | 6.1 | UN1650 | II | 6.1 | IB8, IP2, IP4, T3, TP33 | 153 | 212 | 242 | 25 kg | 100 kg | A |
* * * * * * *
D | Cartridges power device (used to project fastening devices) | ORM-D |  |  | None |  | 63 | None | None | 30 kg gross | 30 kg gross | A |
* * * * * * *
| Chlorate and magnesium chloride mixture solid | 5.1 | UN1459 | II | 5.1 | A9, IB8, IP2, IP4, N34, T3, TP33 | 152 | 212 | 240 | 5 kg | 25 kg | A | 56, 58
* * * * * * *
| Chlorate and magnesium chloride solid | 5.1 | UN1459 | III | 5.1 | A9, IB8, IP3, N34, T1, TP33 | 152 | 213 | 240 | 25 kg | 100 kg | A | 56, 58
* * * * * * *
| Chloroacetophenone, liquid CN | 6.1 | UN3416 | II | 6.1 | A3, IB2, N12, N32, N33, T7, TP2, TP13 | None | 202 | 243 | Forbidden | 60 L | D | 12, 40
| Chloroacetophenone, solid (CN) | 6.1 | UN1697 | II | 6.1 | A3, IB8, IP2, IP4, N12, N32, N33, N34, T3, Tp2, Tp13, TP33 | None | 212 | None | Forbidden | 100 kg | D | 12, 40
* * * * * * *
| Chlorodinitro-benzenes, solid | 6.1 | UN3441 | II | 6.1 | IB8, IP2, IP4, T3, TP33 | 153 | 212 | 242 | 25 kg | 100 kg | A | 91
* * * * * * *
| Cyclotrimethylenenitramine and octogen, mixtures, wetted or desensitized see RDX and HMX mixtures, wetted or desensitized etc |  |  |  |  |  |  |  |  |  |  |  |
| Cyclotrimethylenetrinitramine and HMX mixtures, wetted or desensitized see RDX and HMX mixtures, wetted or desensitized etc |  |  |  |  |  |  |  |  |  |  |  |
* * * * * * *
| Dinitrotoluenes, solid | 6.1 | UN3454 | II | 6.1 | IB8, IP2, IP4, T3, TP33 | 153 | 212 | 242 | 25 kg | 100 kg | A |
| Dinitrotoluenes, molten | 6.1 | UN1600 | II | 6.1 | T7, TP3 | None | 202 | 243 | Forbidden | Forbidden | C |
* * * * * * *
| Diphenyl-chloroarsine, solid | 6.1 | UN3450 | I | 6.1 | IB7, IP1, T6, TP33 | None | 211 | 242 | 5 kg | 50 kg | A | 40
* * * * * * *
| N-Ethylbenzyltoliudines, solid | 6.1 | UN3460 | III | 6.1 | IB8, IP3, T1, TP33 | 153 | 213 | 204 | 100 kg | 200 kg | A |
* * * * * * *
| Fumigated transport vehicle or freight container see 173.9 |  |  |  |  |  |  |  |  |  |  |  |
* * * * * * *
| Hydrogen iodide solution see Hydriodic acid, solution |  |  |  |  |  |  |  |  |  |  |  |
* * * * * * *
| Lead perchlorate, solution | 5.1 | UN3408 | III | 5.1, 6.1 | IB2, T4, TP1 | 152 | 203 | 242 | 2.5 L | 30 L | A | 56, 58
|  |  |  | II | 5.1, 6.1 | IB2, T4, TP1 | 152 | 202 | 243 | 1 L | 5 L | A | 56, 58
| Methyl mercaptopropionaldehyde, see Thia-4-pentanal |  |  |  |  |  |  |  |  |  |  |  |
* * * * * * *
G | Nitriles, toxic, liquid, n.o.s. | 6.1 | UN3276 | I | 6.1 | 5, T14, TP2, TP13, TP27 | None | 201 | 243 | 1 L | 30 L | B | 52
G | Nitriles, toxic, solid, n.o.s. | 6.1 | UN3439 | I | 6.1 | IB7, IP1, T6, TP33 | None | 211 | 242 | 5 kg | 50 kg |  | 52
G | Nitriles, toxic, liquid, n.o.s. | 6.1 | UN3276 | II | 6.1 | IB2, T11, TP2, TP27 | 153 | 202 | 243 | 5 L | 60 L | B | 52
G | Nitriles, toxic, solid, n.o.s. | 6.1 | UN3439 | II | 6.1 | IB8, IP2, IP4, T3, TP33 | 153 | 212 | 242 | 25 kg | 100 kg | B | 52
G | Nitriles, toxic, liquid, n.o.s. | 6.1 | UN3276 | III | 6.1 | IB3, T7, TP1, TP28 | 153 | 203 | 241 | 60 L | 220 L | A | 52
G | Nitriles, toxic, solid, n.o.s. | 6.1 | UN3439 | III | 6.1 | IB8, IP3, T1, TP33 | 153 | 213 | 240 | 100 kg | 200 kg | A | 52
* * * * * * *
| Nitrocresols, solid | 6.1 | UN2446 | III | 6.1 | IB8, IP3, T1, TP33 | 153 | 213 | 240 | 100 kg | 200 kg | A |
| Nitrocresols, liquid | 6.1 | UN3434 | III | 6.1 | IB3, T4, TP1 | 153 | 203 | 241 | 60 L | 220 L | A |
* * * * * * *
| Nitrogen peroxide, see Dinitrogen tetroxide |  |  |  |  |  |  |  |  |  |  |  |
* * * * * * *
| 4-Nitrophenylhydrazine, with not less than 30% water, by mass | 4.1 | UN3376 | I | 4.1 | 164, A8, A19, A20, N41 | None | 211 | None | Forbidden | 15 kg | E | 36
* * * * * * *
| 2,5-Norbornadiene, stabilized, see Bicyclo 2,2,1 hepta-2,5-diene, stabilized |  |  |  |  |  |  |  |  |  |  |  |
* * * * * * *
| Phosphorus | 2.3 | UN2198 |  | 2.3,8 | 2, B9, B14 | None | 302, 304 | 314, 315 | Forbidden | Forbidden | D | 40
* * * * * * *
| Potassium metal, liquid alloy, see Alkali metal alloys, liquid, n.o.s |  |  |  |  |  |  |  |  |  |  |  |
* * * * * * *
| Potassium sodium alloys, solid | 4.3 | UN3404 | I | 4.3 | A19, B27, N34, N40, T9, TP7, TP33 | None | 211 | 244 | Forbidden | 15 kg |  | 52
| Potassium sodium alloys, liquid | 4.3 | UN1422 | I | 4.3 | A7, A19, B27, N34, N40, T9, TP3, TP7, TP31 | None | 201 | 244 | Forbidden | 1L | E | 40, 52
* * * * * * *
| Receptacles, small, containing gas (gas cartridges) non-flammable, without release device, not refillable and not exceeding 1 L capacity | 2.2 | UN2037 |  | 2.2 |  | 306 | 304 | None | 1 kg | 15 kg | B | 40
|  |  |  |  | 2.2, 5.1. | A14 | 306 | 304 | None | 1 kg | 15 kg | B | 40
* * * * * * *
| Refrigerating machines, containing non-flammable, non-toxic, or ammonia solution (UN 2672) | 2.2 | UN2857 |  | 2.2 | A53 | 306, 307 | 306 | 306, 307 | 450 kg | 450 kg | A |
* * * * * * *
| Rubber solution | 3 | UN1287 | II | 3 | 149, IB2, T4, TP1, TP8 | 150 | 202 | 242 | 5 L | 60 L | B |
* * * * * * *
| Rubber solution | 3 | UN1287 | III | 3 | B1, IB3, T2, TP1 | 150 | 203 | 242 | 60 L | 220 L | A |
* * * * * * *
| Selenium compound, solid, n.o.s | 6.1 | UN3283 | I | 6.1 | IB7, IP1, T6, TP33 | None | 211 | 242 | 5 kg | 50 kg | B |
| Selenium compound, liquid, n.o.s | 6.1 | UN3440 | I | 6.1 | T14, TP2, TP27 | None | 201 | 243 | 1 L | 30 L | B |
| Selenium compound, solid, n.o.s | 6.1 | UN3283 | II | 6.1 | IB8, IP2, IP4, T3, TP33 | 153 | 212 | 242 | 25 kg | 100 kg | B |
| Selenium compound, liquid, n.o.s | 6.1 | UN3440 | II | 6.1 | IB2, T11, TP2, TP27 | 153 | 202 | 243 | 5 L | 60 L | B |
| Selenium compound, solid, n.o.s. | 6.1 | UN3283 | III | 6.1 | IB8, IP3, T1, TP33 | 153 | 213 | 240 | 100 kg | 200 kg | A |
| Selenium compound, liquid, n.o.s. | 6.1 | UN3440 | III | 6.1 | IB3, T7, TP1, TP28 | 153 | 203 | 241 | 60 L | 220 L | A |
* * * * * * *
G | Toxic by inhalation liquid, n.o.s. with an inhalation toxicity toxicity lower than or equal to 1000ml/m3 and saturated vapor concentration greater than or equal to 10 LC50 | 6.1 | UN3382 | I | 6.1 | 2, B9, B14, B32, B74, T20, TP2, TP13, TP 27, TP38, TP4527, TP38, TP4513, | None | 227 | 244 | Forbidden | Forbidden | D | 40
* * * * * * *
| 1,1,1-Trifluoroethane or Refrigerant gas, R 143a | 2.1 | UN2035 |  | 2.1 | T50 | 306 | 304 | 314, 315 | Forbidden | 150 kg | B | 40
| Trifluoromethane, refrigerated liquid | 2.2 | UN3136 |  | 2.2 | T75, TP5 | 306 | None | 314, 315 | 50 kg | 500 kg |
* * * * * * *
| Trinitrobenzene (picryl chloride), wetted, with not less than 10% water by mass | 4.1 | UN3365 | I | 4.1 | 162, A8, A19, N41, N84 | None | 211 | None | 0.5 kg | 0.5 kg | E | 36
* * * * * * *
| [ADD]:
* * * * * * *
G | Alkaloids, solid, n.o.s. or Alkaloid salts, solid, n.o.s. poisonous | 6.1 | UN1544 | I | 6.1 | IB7, IP1, T6, TP33 | None | 211 | 242 | 5 kg | 50 kg | A |
|  |  |  | II | 6.1 | IB8, IP2, 1P4, T3, TP33 | 153 | 212 | 242 | 25 kg | 100 kg | A |
|  |  |  | III | 6.1 | IB8, IP3, T1, TP33 | 153 | 213 | 240 | 100 kg | 200 kg | A |
* * * * * * *
| Aluminum alkyl halides, solid | 4.2 | UN3461 | I | 4.2, 4.23 | 173, T21, TP7, TP33 | None | 181 | 244 | Forbidden | Forbidden | D | 134
* * * * * * *
D | Cartridges power device (used to project fastening devices) | ORM-D |  |  | None |  | 63 | None | None | 30 kg gross | 30 kg gross | A |
* * * * * * *
| Chlorate and magnesium chloride mixture solid | 5.1 | UN1459 | II | 5.1 | A9, IB8, IP2, IP4, N34, T3, TP33 | 152 | 212 | 240 | 5 kg | 25 kg | A | 56, 58
|  |  |  | III | 5.1 | A9, IB8, IP3, N34, T1, TP33 | 152 | 213 | 240 | 25 kg | 100 kg | A | 56, 58
* * * * * * *
| Chloroacetophenone, CN, liquid | 6.1 | UN3416 | II | 6.1 | A3, IB2, N12, N32, N33, N34, T3, TP2, TP13 | None | 202 | 243 | Forbidden | 60 L | D | 12, 40
| Chloroacetophenone, CN, solid | 6.1 | UN1697 | II | 6.1 | A3, IB8, IP2, IP4, N12, N32, N33, N34, T3, TP13, TP33 | None | 212 | None | Forbidden | 100 kg | D | 12, 40
* * * * * * *
+ | Chlorodinitrobenzenes, solid | 6.1 | UN3441 | II | 6.1 | IB8, IP2, IP4, T3, TP33 | 153 | 212 | 242 | 25 kg | 100 kg | A | 91
* * * * * * *
| Cyclotrimethylenetrinitramine and HMX mixtures, wetted or desensitized see RDX and HMX mixtures, wetted or desensitized etc |  |  |  |  |  |  |  |  |  |  |  |
* * * * * * *
| Dinitrotoluenes, molten | 6.1 | UN1600 | II | 6.1 | T7, TP3 | None | 202 | 243 | Forbidden | Forbidden | C |
| Dinitrotoluenes, solid | 6.1 | UN3454 | II | 6.1 | IB8, IP2, IP4, T3, TP33 | 153 | 212 | 242 | 25 kg | 100 kg | A |
| Diphenylchloroarsine, solid | 6.1 | UN3450 | I | 6.1 | IB7, IP1, T6, TP33 | None | 211 | 242 | 5 kg | 50 kg | D | 40
* * * * * * *
| N-Ethylbenzyltoluidines, solid | 6.1 | UN3460 | III | 6.1 | IB8, IP3, T1, TP33 | 153 | 213 | 240 | 100 kg | 200 kg | A |
* * * * * * *
| Fumigated transport vehicle or freight container see § 173.9 |  |  |  |  |  |  |  |  |  |  |  |
* * * * * * *
| Hydrogen iodid solution, see Hydriodic acid |  |  |  |  |  |  |  |  |  |  |  |
* * * * * * *
| Lead perchlorate, solution | 5.1 | UN3408 | II | 5.1, 6.1 | IB2, T4, TP1 | 152 | 202 | 243 | 1 L | 5 L | A | 56, 58
|  |  |  | III | 5.1, 6.1 | IB2, T4, TP1 | 152 | 203 | 242 | 2.5 L | 30 L | A | 56, 58
* * * * * * *
| Methyl mercaptopropionaldehyde, see 4-Thiapentanal |  |  |  |  |  |  |  |  |  |  |  |
* * * * * * *
G | Nitriles, toxic, liquid, n.o.s. | 6.1 | UN3276 | I | 6.1 | 5, T14, TP2, TP13, TP27 | None | 201 | 243 | 1 L | 30 L | B | 52
|  |  |  | II | 6.1 | IB2, T11, TP2, TP27 | 153 | 202 | 243 | 5 L | 60 L | B | 52
|  |  |  | III | 6.1 | IB3, T7, TP1, TP28 | 153 | 203 | 241 | 60 L | 220 L | A | 52
G | Nitriles, toxic, solid, n.o.s. | 6.1 | UN3439 | I | 6.1 | IB7, IP1, T6, TP33 | None | 211 | 242 | 5 kg | 50 kg | D | 52
|  |  |  | II | 6.1 | IB8, IP2, IP4, T3, TP33 | 153 | 212 | 242 | 25 kg | 100 kg | B | 52
|  |  |  | III | 6.1 | IB8, IP3, T1, TP33 | 153 | 213 | 240 | 100 kg | 200 kg | A | 52
* * * * * * *
| Nitrocresols, liquid | 6.1 | UN3434 | III | 6.1 | IB3, T4, TP1 | 153 | 203 | 241 | 60 L | 220 L | A |
| Nitrocresols, solid | 6.1 | UN2446 | III | 6.1 | IB8, TP3 T1 TP33 | 153 | 213 | 240 | 100 kg | 200 kg | A |
* * * * * * *
| Nitrogen peroxide, see Dinitrogen tetroxide |  |  |  |  |  |  |  |  |  |  |  |
* * * * * * *
| 4-Nitrophenylhydrazine, with not less than 30% water, by mass | 4.1 | UN3376 | I | 4.1 | 164, A8, A19, A20, N41 | None | 211 | None | Forbidden | 15 kg | E | 36
* * * * * * *
| 2,5-Norbornadiene, stabilized, see Bicyclo 2,2,1 hepta-2,5-diene, stabilized |  |  |  |  |  |  |  |  |  |  |  |
* * * * * * *
| Phenyl urea pesticides, liquid, toxic | 6.1 | UN3002 | I | 6.1 | T14, TP2 TP27 | None | 201 | 243 | 1 L | 30 L | B | 40
|  |  |  | II | 6.1 | T7, TP2 | None | 202 | 243 | 5 L | 60 L | B | 40
|  |  |  | III | 6.1 | T4, TP1 | 153 | 203 | 241 | 60 L | 220 L | A | 40
* * * * * * *
| Phosphorus Pentafluoride | 2.3 | UN2198 |  | 2.3, 8 | 2, B9, B14 | None | 302, 304 | 314, 315 | Forbidden | Forbidden | D | 40
* * * * * * *
| Potassium solium alloys, liquid | 4.3 | UN1422 | I | 4.3 | A7, A19, B27, N34, N40, T9, TP3, TP7, TP31 | None | 201 | 244 | Forbidden | 1 L | E | 40, 52
| Potassium sodium alloys, solid | 4.3 | UN3404 | I | 4.3 | A19, B27, N34, N40, T9, TP7, TP33 | None | 211 | 244 | Forbidden | 15 kg | D | 52
* * * * * * *
| Receptacles, small, containing gas (gas cartridges) non-flammable, without release device, not refillable and not exceeding 1 L capacity. | 2.2 | UN2037 |  | 2.2 |  | 306 | 304 | None | 1 kg | 15 kg | B | 40
* * * * * * *
| Refrigerating machines, containing non-flammable, non-toxic gases, or ammonia solutions (UN2672) | 2.2 | UN2857 |  | 2.2 | A53 | 306, 307 | 306 | 306, 307 | 450 kg | 450 kg | A |
* * * * * * *
| Rubber solution | 3 | UN1287 | II | 3 | 149, IB2, T4, TP1, TP8 | 150 | 202 | 242 | 5 L | 60 L | B |
|  |  |  | III |  | B1, IB3, T2, TP1 | 150 | 203 | 242 | 60 L | 220 L | A |
* * * * * * *
G | Samples, explosive, other than initiating explosives |  | UN1090 | II |  | 113 | None | 62 | None | Forbidden | Forbidden | 14 | 12E
* * * * * * *
| Selenium compound, liquid, n.o.s. | 6.1 | UN3440 | I | 6.1 | TP14, TP2, TP27 | None | 201 | 243 | 1 L | 30 L | B |
|  |  |  | II | 6.1 | IIB2, T11, TP2, TP27 | 153 | 202 | 243 | 5 L | 60 L | B |
|  |  |  | III | 6.1 | IB3, T7, TP1, TP28 | 153 | 203 | 241 | 60 L | 220 L | A |
| Selenium compound, solid, n.o.s. | 6.1 | UN3283 | I | 6.1 | IB7, IP1, T6, TP33 | None | 211 | 242 | 5 kg | 50 kg | B |
|  |  |  | II | 6.1 | IB8, IP2, IP4, T3, TP33 | 153 | 212 | 242 | 25 kg | 100 kg | B |
|  |  |  | III | 6.1 | IB8, IP3, T1, TP33 | 153 | 213 | 240 | 100 kg | 200 kg | A |
* * * * * * *
G | Toxic by inhalation liquid, n.o.s. with an inhalation toxicity lower than or equal to 1000ml/m3 and saturated vapor concentration greater than or equal to 10 LC50 | 6.1 | UN3382 | I | 6.1 | 2, B9, B14, B32, B74, T20, TP2, TP13, TP27, TP38, TP45 | None | 227 | 244 | Forbidden | Forbidden | D | 40
* * * * * * *
| Trifluoromethane, refrigerated liquid | 2.2 | UN3136 |  | 2.2 | T75, TP5 | 306 | None | 314, 315 | 50 kg | 500 kg | D |
| 1,1,1-Trifluoroethane or Refrigerant gas, R 143a | 2.1 | UN2035 |  | 2.1 | T50 | 306 | 304 | 314, 315 | Forbidden | 150 kg | B | 40
* * * * * * *
| Trinitrochlorobenzene (picry1 chloride), wetted, with not less than 10% water by mass | 4.1 | UN3365 | I | 4.1 | 162, A8, A19, N41, N84 | None | 211 | None | 0.5 kg | 0.5 kg | E | 36
* * * * * * *
| [REVISE]: |  |  |  |  |  |  |  |  |  |  |  |
* * * * * * *
| Adhesives, containing a flammable liquid | 3 | UN1133 | I | 3 | B42, T11, TP1, TP8, TP27 | 150 | 201 | 243 | 1 L | 30 L | B |
|  |  |  | II | 3 | 149, B52, IB2, T4, TP1, TP8 | 150 | 173 | 242 | 5 L | 60 L | A |
|  |  |  | III | 3 | B1, B52, IB3, T2, TP1 | 150 | 173 | 242 | 60 L | 220 L | A |
* * * * * * *
| Aerosols, corrosive, Packing Group II or III, (each not exceeding 1 L capacity) | 2.2 | UN1950 |  | 2.2, 8 | A34 | 306 | None | None | 75 kg | 150 kg | A | 48, 87, 126
| Aerosols, flammable, (each not exceeding 1 L capacity) | 2.1 | UN1950 |  | 2.1 | N82 | 306 | None | None | 75 kg | 150 kg | A | 48, 87, 126
| Aerosols, flammable, n.o.s. (engine starting fluid) (each not exceeding 1 L capacity) | 2.1 | UN1950 |  | 2.1 | N82 | 306 | 304 | None | Forbidden | 150 kg | A | 48, 87, 126
| Aerosols, non-flammable, (each not exceeding 1 L capacity) | 2.2 | UN1950 |  | 2.2 |  | 306 | None | None | 75 kg | 150 kg |  | 48, 87, 126
| Aerosols, poison, each not exceeding 1 L capacity | 2.2 | UN1950 |  | 2.2, 6.1 |  | 306 | None | None | Forbidden | Forbidden | A | 48, 87, 126
* * * * * * *
G | Alcohols, flammable, toxic n.o.s | 3 | UN1986 | I | 3, 6.1 | T14, TP2, TP13, TP27 | None | 201 | 243 | Forbidden | 30 L | E | 40
|  |  |  | II | 3, 6.1 | IB2, T11, TP2, TP27 | 150 | 202 | 243 | 1 L | 60 L | B | 40
|  |  |  | III | 3, 6.1 | B1, IB3, T7, TP1, TP28 | 150 | 203 | 242 | 60 L | 220 L | A |
* * * * * * *
| Aluminum alkyl halides, liquid | 4.2 | UN3052 | I | 4.2, 4.3 | 173, B9, B11, T21, TP2, TP7 | None | 181 | 244 | Forbidden | Forbidden | D | 134
* * * * * * *
| Aluminum alkyl hydrides | 4.2 | UN3076 | I | 4.2, 4.3 | 173, B9, B11, T21, TP2, TP7 | None | 181 | 244 | Forbidden | Forbidden | D |
| Aluminum alkyls | 4.2 | UN3051 | I | 4.2, 4.3 | 173, B9, B11, T21, TP2, TP7 | None | 181 | 244 | Forbidden | Forbidden | D |
* * * * * * *
| Ammonium nitrate emulsion or Ammonium nitrate suspension or Ammonium nitrate gel, intermediate for blasting explosives | 5.1 | UN3375 | II | 5.1 | 147, 163 | None | 214 | 214 | Forbidden | Forbidden | D | 60, 66, 124
* * * * * * *
| 5-tert-Butyl-2,4,6-trinitro-m-xylene or Musk xylene | 4.1 | UN2956 | III | 4.1 | 159 | None | 223 | None | Forbidden | Forbidden | D | 12, 25, 48, 127
* * * * * * *
| Calcium arsenate | 6.1 | UN1573 | II | 6.1 | IB8, IP2, IP4, T3, TP33 | 153 | 212 | 242 | 25 kg | 100 kg | A |
| Calcium arsenate and calcium arsenite, mixtures, solid | 6.1 | UN1574 | II | 6.1 | IB8, IP2, IP4, T3, TP33 | 153 | 212 | 242 | 25 kg | 100 kg | A |
* * * * * * *
+ | Chloroacetonitrile | 6.1 | UN2668 | II | 6.1, 3 | 2, B9, B14, B32, B74, IB9, T20, TP2, TP38, TP45 | None | 227 | 244 | Forbidden | Forbidden | A | 12, 40, 52
* * * * * * *
G | Corrosive liquids, toxic, n.o.s. | 8 | UN2922 | I | 8, 6.1 | A6, A7, B10, T14, TP2, TP13, TP27 | None | 201 | 243 | 0.5 L | 2.5 L | B | 40
|  |  |  | II | 8, 6.1 | B3, IB2, T7, TP2 | 154 | 202 | 243 | 1 L | 30 L | B | 40
|  |  |  | III | 8, 6.1 | IB3, T7, TP1, TP28 | 154 | 203 | 241 | 5 L | 60 L | B | 40
* * * * * * *
| Cyclotrimethylenenitramine and oxygen, mixtures, wetted or desensitized see RDX and HMX mixtures, wetted or desensitized etc |  |  |  |  |  |  |  |  |  |  |  |
* * * * * * *
| Detonators, non-electric, for blasting | 1.4S | UN0455 | II | 1.4S |  | 63(f), 63(g), | 62 | None | 25 kg | 100 kg | 05 |
* * * * * * *
| Diethylzinc | 4.2 | UN1366 | I | 4.2, 4.3 | 173, B11, T21, TP2, TP7 | None | 181 | 244 | Forbidden | Forbidden | D | 18
* * * * * * *
| 2-Dimethylaminoacetonitrile | 3 | UN2378 | II | 3, 6.1 | IB2, T7, TP1 | 150 | 202 | 243 | 1 L | 60 L | A | 40, 52
* * * * * * *
| Dimethylzinc | 4.2 | UN1370 | I | 4.2, 4.3 | 173, B11, B16, T21, TP2, TP7 | None | 181 | 244 | Forbidden | Forbidden | D | 18
* * * * * * *
| Explosive, blasting, type A | 1.1D | UN0081 | II | 1.1D |  | None | 62 | None | Forbidden | Forbidden | 10 | 19E, 21E
| Explosive, blasting, type B | 1.1D | UN0082 | II | 1.1D |  | None | 62 | None | Forbidden | Forbidden | 10 | 19E
| Explosive, blasting, type B or Agent blasting, Type B | 1.5D | UN0331 | II | 1.5D | 105,106 | None | 62 | None | Forbidden | Forbidden | 10 | 19E
* * * * * * *
| Explosive, blasting, type E | 1.1D | UN0241 | II | 1.1D |  | None | 62 | None | Forbidden | Forbidden | 10 | 19E
| Explosive, blasting, type E or Agent blasting, Type E | 1.5D | UN0332 | II | 1.5D | 105, 106 | None | 62 | None | Forbidden | Forbidden | 10 | 19E
* * * * * * *
A I W | Fibers, animal or Fibers, vegetable burnt, wet or damp | 4.2 | UN1372 | III | 4.2 |  | 151 | 213 | 240 | Forbidden | Forbidden | A |
IW | Fibers, vegetable, dry | 4.1 | UN3360 | III | 4.1 | 137 | 151 | 213 | 240 | No Limit | No Limit | A |
* * * * * * *
| Gasoline | 3 | UN1203 | II | 3 | 144, B33, T8 | 150 | 202 | 242 | 5 L | 60 L | E |
* * * * * * *
| Hydrogen peroxide and peroxyacetic acid mixtures, stabilized with acids, water and not more than 5 percent peroxyacetic acid | 5.1 | UN3149 | II | 5.1, 8 | 145, A2, A3, A6, B53, IB2, T7, TP2, TP6, TP24 | None | 202 | 243 | 1 L | 5 L | D | 25, 66, 75
* * * * * * *
| Hydrogen peroxide, aqueous solutions with not less than 20 percent but not more than 40 percent hydrogen peroxide (stabilized as necessary) | 5.1 | UN2014 | II | 5.1, 8 | A2, A3, A6, B53, IB2, T7, TP2, TP6, TP24, TP37 | None | 202 | 243 | 1 L | 5 L | D | 25, 66, 75
* * * * * * *
| Hydrogen peroxide, aqueous solutions with not less than 8 percent but less than 20 percent hydrogen peroxide (stabilized as necessary) | 5.1 | UN2984 | III | 5.1 | A1, IB2, T4, TP1, TP6, TP24, TP37 | 152 | 203 | 241 | 2.5 L | 30 L | B | 25, 66, 75
* * * * * * *
| Hypochlorite solutions | 8 | UN1791 | II | 8 | A7, B2, B15, IB2, N34, T7, TP2, TP24 | 154 | 202 | 242 | 1 L | 30 L | B | 26
|  |  |  | III | 8 | IB3, N34, T4, TP2, TP24 | 154 | 203 | 241 | 5 L | 60 L | B | 26
* * * * * * *
| Isopropyl nitrate | 3 | UN1222 | II | 3 | IB9 | 150 | 202 | None | 5 L | 60 L | D |
* * * * * * *
| Lithium alkyls, liquid | 4.2 | UN2445 | I | 4.2, 4.3 | 173, B11, T21, TP2, TP7 | None | 181 | 244 | Forbidden | Forbidden | D |
| Lithium alkyls, solid | 4.2 | UN3433 | I | 4.2, 4.3 | 173, B11, T21, TP7, TP33 | None | 181 | 244 | Forbidden | Forbidden | D |
* * * * * * *
| Lithium batteries, contained in equipment | 9 | UN3091 | II | 9 | 29, A54, A55, A102, A104 | 185 | 185 | None | See A102, A104 | 35 kg | A |
| Lithium batteries packed with equipment | 9 | UN3091 | II | 9 | 29, A54, A55, A101, A103 | 185 | 185 | None | See A101, A103 | 35 kg gross | A |
| Lithium battery | 9 | UN3090 | II | 9 | 29, A54, A55, A100 | 185 | 185 | None | See A100 | 35 kg gross | A |
* * * * * * *
| Magnesium diphenyl | 4.2 | UN2005 | I | 4.2 | 173, T21, TP7, TP33 | None | 187 | 244 | Forbidden | Forbidden | C |
* * * * * * *
| 2-Methylbutanal | 3 | UN3371 | II | 3 | IB2, T4, TP1 | 150 | 202 | 242 | 5 L | 60 L | B |
* * * * * * *
| n-Propyl nitrate | 3 | UN1865 | II | 3 | IB9 | 150 | 202 | None | 5 L | 60 L | D | 44, 89, 90, 100
* * * * * * *
G | Organoarsenic compound, liquid, n.o.s | 6.1 | UN3280 | I | 6.1 | 5, T14, TP2, TP13, TP27 | None | 211 | 242 | 1 L | 30 L | B |
|  |  |  | II | 6.1 | IB2, T11, TP2, TP27 | 153 | 212 | 242 | 5 L | 60 L | B |
|  |  |  | III | 6.1 | IB3, T7, TP1, TP28 | 153 | 213 | 240 | 60 L | 220 L | A |
* * * * * * *
G | Organometallic compound, toxic, liquid, n.o.s | 6.1 | UN3282 | I | 6.1 | T14, TP2, TP13, TP27 | None | 211 | 242 | 1 L | 30 L | B |
|  |  |  | II | 6.1 | IB2, T11, TP2, TP27 | 153 | 212 | 242 | 5 L | 60 L | B |
|  |  |  | III | 6.1 | IB3, T7, TP1, TP28 | 153 | 213 | 240 | 60 L | 220 L | A |
* * * * * * *
G | Organometallic substance, liquid, water-reactive | 4.3 | UN3398 | I | 4.3 | T13, TP2, TP7 | None | 201 | 244 | Forbidden | 1 L | E | 40, 52
|  |  |  | II | 4.3 | IB1, T7, TP2, TP7 | None | 202 | 243 | 1 L | 5 L | E | 40, 52
|  |  |  | III | 4.3 | IB2, T7, TP2, TP7 | None | 203 | 242 | 5 L | 60 L | E | 40, 52
| Organometallic substance, liquid, water-reactive, flammable | 4.3 | UN3399 | I | 4.3, 3 | T13, TP2, TP7 | None | 201 | 244 | Forbidden | 1 L | E | 40, 52
|  |  |  | II | 4.3, 3 | IB1, IP2, T7, TP2, TP7 | None | 202 | 243 | 1 L | 5 L | E | 40, 52
|  |  |  | III | 4.3, 3 | IB2, IP4, T7, TP2, TP7 | None | 203 | 242 | 5 L | 60 L | E | 40, 52
* * * * * * *
G | Self-reactive liquid type F | 4.1 | UN3229 | II | 4.1 |  | None | 224 | None | 10 L | 25 L | D | 52, 53
* * * * * * *
D | Sulfur | 9 | NA1350 | III | 9 | 30, IB8, IP2 | None | None | 240 | No Limit | No Limit | A | 19, 74
* * * * * * *
I | Sulfur, molten | 4.1 | UN2448 | III | 4.1 | 30, IB1, T1, TP3 | None | 213 | 247 | Forbidden | Forbidden | C | 74
* * * * * * *
| Sulfuric acid, fuming with less than 30 percent free sulfur trioxide | 8 | UN1831 | I | 8 | A3, A7, B84, N34, T20, TP2, TP12, TP13 | None | 201 | 243 | Forbidden | 2.5 L | C | 14, 40
| Sulfuric acid, fuming with 30 percent or more free sulfur trioxide | 8 | UN1831 | I | 8, 6.1 | 2, B9, B14, B32, B74, B77, B84, N34, T20, TP2, TP12, TP13 | None | 227 | 244 | Forbidden | Forbidden | C | 14, 40
* * * * * * *
G | Toxins, extracted from living sources, solid, n.o.s. | 6.1 | UN3462 | I | 6.1 | 141, IB7, IP1, T6, TP33 | None | 211 | 243 | 5 kg | 50 kg | B |
|  |  |  | II | 6.1 | 141, IB8, IP2, IP4, T3 TP33 | None | 212 | 243 | 25 kg | 100 kg | B |
|  |  |  | III | 6.1 | 141, IB8, IP3, T1 TP33 | 153 | 213 | 241 | 100 kg | 200 kg | A |
* * * * * * *

3. In § 172.102:

a. In paragraph (c)(1), Special Provision 173 is added.

b. In paragraph (c)(3), Special Provision B69 is revised.

c. In paragraph (c)(4), in Table 1.-IB Codes (IBC Codes), two entries are revised.

d. In paragraph (c)(7), in the Table of Portable Tank T Codes T1-T22, one entry is revised.

e. In paragraph (c)(8), the formula in Special Provision TP3 is revised.

The revisions read as follows:

§ 172.102 Special provisions.

* * * * *

(c) * * *

(1) * * *

Code/Special Provisions.

* * * * *

173 An appropriate generic entry may be used for this material.

* * * * *

(3) * * *

Code/Special Provisions.

* * * * *

B69 Dry sodium cyanide or potassium cyanide may be shipped in sift-proof weather-resistant metal covered hopper car, covered motor vehicles, portable tanks or non-specification bins. Bins must be approved by the Associate Administrator.

* * * * *

(4) * * *

Table 1.—IB Codes (IBC Codes)
IBC Code | Authorized IBCs
* * * * *
IB2 | Authorized IBCs: Metal (31A, 31B and 31N); Rigid plastics (31H1 and 31H2); Composite (31HZ1).
| Additional Requirement: Only liquids with a vapor pressure less than or equal to 110 kPa at 50 °C (1.1 bar at 122 °F), or 130kPa at 55 °C (1.3 bar at 131 °F) are authorized.
IB3 | Authorized IBCs: Metal (31A, 31B and 31N); Rigid plastics (31H1 and 31H2); Composite (31HZ1 and 31HA2, 31HB2, 31HN2, 31HD2 and 31HH2).
| Additional Requirement: Only liquids with a vapor pressure less than or equal to 110 kPa at 50 °C (1.1 bar at 122 °F), or 130 kPa at 55 °C (1.3 bar at 131 °F) are authorized, except for UN2672 (also see Special Provision IP8 in Table 2 for UN2672).
* * * * *

* * * * *

(7) * * *

Table of Portable Tank T Codes T1-T22
[Portable tank codes T1—T22 apply to liquid and solid hazardous materials of Classes 3 through 9 which are transported in portable tanks.]
Portable tank instrtuction | Minimum test pressure (bar) | Minimum shell thickness (in mm-reference steel) (See § 178.274(d)(2) | Pressure-relief requirements (See § 178.275(g)) | Bottom opening requirements (See § 178.275(d))
(1) | (2) | (3) | (4) | (5)
T1 | 1.5 | § 178.274(d)(2) | Normal | § 178.275(d)(2)
* * * * * *

* * * * *

(8) * * *

Code/Special Provisions.

* * * * *

TP3 The maximum degree of filling (in %) for solids transported above their melting points and for elevated temperature liquids shall be determined by the following:

Where: df and dr are the mean densities of the liquid at the mean temperature of the liquid during filling and the maximum mean bulk temperature during transport respectively.

* * * * *

§ 172.202 [Amended]

4. In § 172.202, in paragraph (a)(5)(i), in the first sentence, the wording “Class I materials,” is revised to read “Class 1 materials,”.

4a. In § 172.203, paragraph (m)(2) is revised to read as follows:

§ 172.203 Additional description requirements.

* * * * *

(m) * * *

(2) For materials that are poisonous by inhalation (see § 171.8 of this subchapter), the words “Poison-Inhalation Hazard” or “Toxic-Inhalation Hazard” and the words “Zone A”, “Zone B”, “Zone C”, or “Zone D”, for gases or “Zone A” or “Zone B” for liquids, as appropriate, must be entered on the shipping description. The word “Poison” or “Toxic” or the phrase “Poison-Inhalation Hazard” or “Toxic Inhalation Hazard” need not be repeated if the words “Poison Inhalation” otherwise appears in the shipping description.

* * * * *

PART 173—SHIPPERS—GENERAL REQUIREMENTS FOR SHIPMENTS AND PACKAGINGS

5. The authority citation for part 173 continues to read as follows:

Authority: 49 U.S.C. 5101-5127, 44701; 49 CFR 1.45, 1.53.

6. In § 173.3, paragraph (c) introductory text is revised to read as follows:

§ 173.3 Packaging and exceptions.

* * * * *

(c) Salvage drums. Packages of hazardous materials that are damaged, defective, or leaking, packages found to be not conforming to the requirements of this subchapter after having been place in transportation, and hazardous materials that have spilled or leaked may be placed in a metal or plastic removable head salvage drum that is compatible with the lading and shipped for repackaging or disposal under the following conditions:

* * * * *

6a. In § 173.25, paragraph (a)(4) is revised to read as follows:

§ 173.25 Authorized packagings and overpacks.

(a) * * *

* * * * *

(4) The overpack is marked with the word “OVERPACK” when specification packagings are required, unless specification markings on the inside packages are visible. Alternatively, an overpack marked with a statement indicating that the “inside (inner) packages comply with prescribed specifications” may be used to satisfy the provisions of this paragraph until October 1, 2007.

* * * * *

6b. In § 173.115, paragraphs (a)(2) and (k)(3) are revised to read as follows:

§ 173.115 Class 2, Division 2.1, 2.2 and 2.3 Definitions.

(a) * * *

* * * * *

(2) Has a flammable range at 101.3 kPa (14.7 psia) with air of at least 12 percent regardless of the lower limit. Except for aerosols, the limits specified in paragraphs (a)(1) and (a)(2) of this section shall be determined at 101.3 kPa (14.7 psia) of pressure and a temperature of 20° C (68 °F) in accordance with the ASTM E681-85, Standard Test Method for Concentration Limits of Flammability of Chemicals or other equivalent method approved by the Associate Administrator. The flammability of aerosols is determined by the tests specified in § 173.115 (k) of this section.

* * * * *

(k) * * *

* * * * *

(3) Aerosols not meeting the provisions of paragraphs (a) or (b) of this section must be classed in accordance with the appropriate tests of the UN Manual of Tests and Criteria (IBR, see § 171.7 of this subchapter). An aerosol which was tested in accordance with the requirements of this subchapter in effect on December 31, 2005 is not required to be retested.

* * * * *

§ 173.151 [Amended]

7-8. In § 173.151, in paragraph (c), in the first sentence, the wording “171.8 of this subchapter.” is revised to read “§ 171.8 of this subchapter.”

9. In § 173.185, paragraph (e)(6) is revised to read as follows:

§ 173.185 Lithium batteries and cells.

* * * * *

(e) * * *

(6) Each cell or battery is of the type proven to meet the lithium battery requirements in the UN Manual of Tests and Criteria (IBR; see § 171.7 of this subchapter). A cell or battery and equipment containing a cell or battery of a design type which was first transported prior to January 1, 2006 and is of a type proven to meet the criteria of Class 9 by testing in accordance with the tests in the UN Manual of Tests and Criteria, Third Revised Edition, 1999 is not required to be retested;

* * * * *

§ 173.212 [Amended]

10. In § 173.212, in paragraph (c), the wording “Glass, porcelain or stoneware in steel, aluminum, wooden or fiberboard box: 6PA2, 6PB1, 6PC, or 6PG2” is revised to read “Glass, porcelain or stoneware in steel, aluminum, wooden or fiberboard box: 6PA2, 6PB2, 6PC, or 6PG2”.

§ 173.213 [Amended]

11. In § 173.213, in paragraph (c), the wording “Glass, porcelain or stoneware in steel, aluminum, wooden or fiberboard box: 6PA2, 6PB1, 6PC, or 6PG2” is revised to read “Glass, porcelain or stoneware in steel, aluminum, wooden or fiberboard box: 6PA2, 6PB2, 6PC, or 6PG2”.

12. In § 173.220, paragraphs (a)(3) and (g) are revised to read as follows:

§ 173.220 Internal combustion engines, self-propelled vehicles, mechanical equipment containing internal combustion engines, and battery powered vehicles or equipement.

(a) * * *

(3) Except as provided in paragraph (e)(1) of this section, it contains other hazardous materials subject to the requirements of this subchapter.

* * * * *

(g) Exceptions. Except as provided in paragraph (e)(2) of this section, shipments made under the provisions of this section—

(1) Are not subject to any other requirements of this subchapter, for transportation by motor vehicle or rail car; and

(2) Are not subject to the requirements of subparts D, E and F (marking, labeling and placarding, respectively) of part 172 of this subchapter or § 172.604 of this subchapter (emergency response telephone number) for transportation by vessel or aircraft. For transportation by aircraft, all other applicable requirements of this subchapter, including shipping papers, emergency response information, notification of pilot-in-command, general packaging requirements, and the requirements specified in § 173.27 must be met. For transportation by vessel, additional exceptions are specified in § 176.905 of this subchapter.

§ 173.225 [Amended]

13. In § 173.225 the following changes are made:

a. In paragraph (c), in the Organic Peroxide Table, under the entry “Dicumyl peroxide, UN3110”, in column 8, the number “9” is added.

b. In paragraph (c), in the Organic Peroxide Table, in column 8, the number “29” is removed in each place it appears.

c. In paragraph (c), in the Organic Peroxide Table, in Note 12, the paragraph reference “(c)(2)” is revised to read “(b)(2).”

d. In paragraph (c), in the Organic Peroxide Table, “Note 29” is removed.

e. In paragraph (g), in the Organic Peroxide Portable Tank Table, under the entry “ORGANIC PEROXIDE, TYPE F, LIQUID,” in the second column, the wording “Isopropyl cumyl hydroperoxide, not more 72% in diluent type A” is revised to read “Isopropyl cumyl hydro-peroxide, not more than 72% in diluent type A.”

f. In paragraph (g), in the Organic Peroxide Portable Tank Table, under the entry “ORGANIC PEROXIDE, TYPE F, LIQUID,” in the second column, the wording “p-Menthyl hydro-peroxide, not more 72% in diluent type A” is revised to read “p-Menthyl hydro-peroxide, not more than 72% in diluent type A.”

g. Paragraph (h)(3)(xii) is revised to read as follows:

§ 173.225 Packaging requirements and other provisions for organic peroxides.

* * * * *

(h) * * *

(3) * * *

(xii) DOT 57 metal portable tanks are authorized only for those materials or mixtures of two or more materials that are provided with a reference to Note 9 in Column 8 of the Organic Peroxide Table, found in paragraph (c) of this section. DOT 57 portable tanks must conform to the venting requirements of paragraph (f) of this section. These portable tanks are not subject to any other requirements of paragraph (h) of this section.

* * * * *

14. Section 173.227 is revised to read as follows:

§ 173.227 Materials poisonous by inhalation, Division 6.2, Packing Group I, Hazard Zone B.

(a) In packagings as authorized in § 173.226 and seamless and welded specification cylinders conforming to the requirements of § 173.40.

(b) 1A1, 1B1, 1N1 or 1H1 drum or 6HA1 composite further packed in a 1A2 or 1H2 drum. Both the inner and outer drums must conform to the performance test requirements of subpart M of part 178 of this subchapter at the Packing Group I performance level. The outer drums may be tested either as a package intended to contain inner packagings (combination package) or as a single packaging intended to contain solids or liquids at a mass corresponding to the mass of the assembled packaging system. The outer drum must have a minimum thickness of 1.35 mm (0.053 inches) for a 1A2 outer drum or 6.30 mm (0.248 inches) for a 1H2 outer drum. Outer 1A2 and 1H2 drums must withstand a hydrostatic test pressure of 100 kPa (15 psig). Capacity of the inner drum may not exceed 220 liters. In addition, the inner drum must conform to all of the following requirements:

(1) Satisfactorily withstand the leakproofness test in § 178.604 of this subchapter using an internal air pressure of at least two times the vapor pressure at 55 °C (131 °F) of the material to be packaged;

(2) Have screw closures that are—

(i) Closed and tightened to a torque prescribed by the closure manufacturer, using a properly calibrated device that is capable of measuring torque;

(ii) Physically held in place by any means capable of preventing back-off or loosening of the closure by impact or vibration during transportation; and

(iii) Provided with a cap seal that is properly applied in accordance with the cap seal manufacturer's recommendations and is capable of withstanding an internal pressure of at least 100 kPa (15 psig).

(3) Have a minimum thickness as follows:

(i) For a 1A1 drum, 0.69 mm (0.027 inch);

(ii) For a 1B1 drum, 2.79 mm (0.110 inch);

(iii) For a 1H1 drum, 1.14 mm (0.045 inch); or

(iv) For a 6HA1 drum, the plastic inner container shall be 1.58 mm (0.0625 inch), the outer steel drum shall be 0.70 mm (0.027 inch).

(4) Be isolated from the outer drum by a shock-mitigating, non-reactive material which completely surrounds the inner packaging on all sides.

(5) Prior to reuse, all authorized inner drums must be leakproofness tested and marked in accordance with § 173.28 using a minimum test pressure as indicated in paragraph (b)(1) of this section.

(c) 1A1, 1B1, 1H1, 1N1, 6HA1 or 6HH1 drums described in paragraph (b) of this section may be used without being further packed in a 1A2 or 1H2 drum if the shipper loads the material, blocks and braces the drums within the transport vehicle and seals the transport vehicle used. Drums may not be stacked (double decked) within the transport vehicle. Shipments must be from one origin to one destination only without any intermediate pickup or delivery.

§ 173.313 [Amended]

15. In § 173.313 the following changes are made:

(a) In the “UN Portable Tank Table for Liquefied Compressed Gases”, in the first column, under the entry “1912”, the number “1954” is removed.

(b) In the “UN Portable Tank Table for Liquefied Compressed Gases”, in the second column, under the entry “Methyl chloride and methylene chloride mixture”, the wording “n.o.s.” is removed.

(c) In the “UN Portable Tank Table for Liquefied Compressed Gases”, under the entry “Methyl chloride and methylene chloride mixture”, in the sixth column the number “0.811954” is revised to read “0.081”.

(d) In the “UN Portable Tank Table for Liquefied Compressed Gases”, in the first column, under the entry “NA”, the number “1954” is added.

(e) In the “UN Portable Tank Table for Liquefied Compressed Gases”, in the second column, under the entry “Insecticide gases, flammable”, the wording “n.o.s.” is added.

(f) In the “UN Portable Tank Table for Liquefied Compressed Gases”, in the second column, the entry “Insecticide gases, flammable” is revised to read “Insecticide gases, flammable”.

PART 175—CARRIAGE BY AIRCRAFT

16. The authority citation for part 175 continues to read as follows:

Authority: 49 U.S.C. 5101-5127; 49 CFR 1.53.

§ 175.30 [Amended]

17. In § 175.30, paragraph (a)(5) is removed.

PART 176—CARRIAGE BY VESSEL

18. The authority citation for part 176 continues to read as follows:

Authority: 49 U.S.C. 5101-5127; 49 CFR 1.53.

§ 176.83 [Amended]

19. In § 176.83, the following changes are made:

a. In paragraph (l), in “Table 176.83(l)(3)—Segregation of Cargo Transport Units on Board Hatchless Container Ships”, under the first entry “Away from”, in the tenth and eleventh columns the wording “one container space” is revised to read “One container space” respectively.

b. In paragraph (l), in “Table 176.83(l)(3)—Segregation of Cargo Transport Units on Board Hatchless Container Ships”, under the third entry “Separated by a complete compartment or hold from”, in the tenth column, the wording “Tree” is revised to read “Three”.

PART 178—SPECIFICATIONS FOR PACKAGINGS

20-21. The authority citation for part 178 continues to read as follows:

Authority: 49 U.S.C. 5101-5127; 49 CFR 1.53.

§ 178.274 [Amended]

22. In § 178.274, in paragraph (f)(1)(v), the wording “(IBR, see § 171.1 of this subchapter);” is revised to read “(IBR, see § 171.7 of this subchapter);”.

PART 180—CONTINUING QUALIFICATION AND MAINTENANCE OF PACKAGINGS

23. The authority citation for part 180 continues to read as follows:

Authority: 49 U.S.C. 5101-5127; 49 CFR 1.53.

24. In § 180.352, paragraph (d)(1)(iv) is revised to read as follows:

§ 180.352 Requirements for retest and inspection of IBCs.

* * * * *

(d) * * *

(1) * * *

(iv) The person performing the tests and inspections after the repair must durably mark the IBC near the manfacturer's UN design type marking to show the following:

(A) The country in which the tests and inspections were performed;

(B) The name or authorized symbol of the person performing the tests and inspections; and

(C) The date (month, year) of the tests and inspections.

* * * * *

Issued in Washington, DC, on June 6, 2005, under authority delegated in 49 CFR part 1.
Stacey L. Gerard,
Acting Assistant Administrator/Chief Safety Officer, Pipeline and Hazardous Materials Safety Administration.

[FR Doc. 05-11648 Filed 6-13-05; 8:45 am]

BILLING CODE 4910-60-P